DEPARTMENT OF STATE

[Public Notice 3698]

Bureau of Educational and Cultural Affairs Request for Grant Proposals: Edmund S. Muskie/FREEDOM Support Act Graduate Fellowship Program

Summary

Subject to the availability of funds, the Office of Academic Exchange Programs of the Bureau of Educational and Cultural Affairs announces an open competition for an assistance award. Public and private non-profit organizations meeting the provisions described in IRS regulation 26 CFR 1.501(c) may submit proposals to administer the selection, placement, monitoring, evaluation, follow-on, and alumni activities for the FY 2002 Edmund S. Muskie/FREEDOM Support Act Graduate Fellowship Program. Proposals should include provisions for the recruitment of FY 2003 fellows.

The Edmund S. Muskie/FREEDOM Support Act Graduate Fellowship Program (herein referred to as the Muskie/FSA Program) selects outstanding citizens from the New Independent States (NIS) to receive fellowships for Master's level study in the United States in the fields of business administration, economics, education, environmental management, international affairs, law, library and information science, journalism/mass communications, public administration, public health, and public policy. Fellowships are granted to qualified individuals who are citizens of Armenia, Azerbaijan, Belarus, Georgia, Kazakstan, Kyrgyzstan, Moldova, the Russian Federation, Tajikistan, Turkmenistan, Ukraine, or Uzbekistan. Muskie/FSA Program fellows will be enrolled in graduate degree, certificate, and non-degree programs lasting one to two academic years, with the majority enrolled in two-year degree-granting programs. It is estimated that approximately 330 fellows will receive fellowships under the FY 2002 program. Interested organizations should read the entire Federal Register announcement for all information prior to preparing proposals.

Organizations with less than four years of experience in conducting international exchange programs are not eligible for this competition.

Program Information

Overview: The Muskie/FSA Program is designed to foster democratization and the transition to market economies in the NIS through intensive academic study and professional training. The academic component of the program begins in the fall semester of the year following the award (in this case 2002). Fellows may participate in a nine, twelve, eighteen, or twenty-four month academic program. Fellows also take part in an eight to twelve week internship during the summer following the first academic year, with an option for a second internship following the second year of study. Fellows must return to their home countries at the conclusion of their program. The Muskie/FSA Program is not intended as a precursor to doctoral studies, extended professional training, or employment in the United States. At the end of their designated academic and/or internship programs, fellows are required to immediately return to their home countries.

ECA will consider awarding one or more grants for this program. Should more than one organization be selected to administer the Muskie/FSA Program, ECA will decide on the distribution of fellows between grantee organizations.

Should an applicant organization wish to work with other organizations in the implementation of this program, ECA prefers that a sub-grant agreement be developed. However, ECA will entertain separately submitted proposals from two or more organizations for joint program management, as long as the proposals demonstrate a value-added relationship and clearly delineate responsibilities. Program responsibilities should not be duplicated and the arrangement should not produce prohibitive administrative expenses.

The Muskie/FSA Program must conform to ECA requirements and guidelines outlined in the Solicitation Package. ECA programs are subject to the availability of funds and must comply with J-1 Visa regulations. Please refer to the Solicitation Package for further information.

Applicant organizations must demonstrate the ability to administer all aspects of the Muskie/FSA Program—selection, university placements, orientation, monitoring and support of FY 2002 fellows including all logistics, financial management, evaluation, follow-on, and alumni tracking and programming, as well as advertisement for, and recruitment of, FY 2003 applicants in the NIS. Applicant organizations must demonstrate the ability to recruit and select a diverse pool of candidates from various geographic regions in the NIS. Organizations will take the lead in the recruitment and selection of appropriate host institutions from throughout the United States for pre-academic, English as a Foreign Language, and academic programs. Organizations will serve as the principal liaison with Muskie/FSA Program host institutions for ECA. Applicant organizations should demonstrate the ability to work with private sector organizations in the United States and the NIS to facilitate fellows' professional development and post-program re-entry. Further details on specific program responsibilities can be found in the Project Objectives, Goals, and Implementation (POGI) Statement, which is part of the formal solicitation package available from ECA.

Guidelines: The award to the grantee organization will begin on or about October 1, 2001 and will be approximately two years in duration. Recruitment and initial selection activities for FY 2002 fellows will be performed by the current grantee organizations. The level of funding for FY 2002 is uncertain, but is anticipated to be approximately $20,460,000. Based on this figure, applicant organizations should submit a budget to fund no fewer than 330 fellows. The final number of fellowships per country will be announced following the grant award; however, for planning purposes organizations should assume the following distribution of fellows by country: Armenia 40, Azerbaijan 28, Belarus 9, Georgia 24, Kazakstan 15, Kyrgyzstan 11, Moldova 8, Russian Federation 67, Tajikistan 3, Turkmenistan 7, Ukraine 101, Uzbekistan 17. Additionally, applicant organizations should assume the following number of fellows by field of study: Business Administration 45, Economics 30, Education 30, Environmental Management 30, International Affairs 35, Journalism/Mass Communications 20, Law 30, Library and Information Science 10, Public Administration 40, Public Health 30, and Public Policy 30.

Applicant organizations are encouraged, through cost sharing and other methods, to provide for as many fellowships as possible above and beyond the minimum numbers supplied by ECA.

Budget Guidelines: ECA grant guidelines limit organizations with less than four years experience conducting international exchanges to $60,000 in Bureau grant support. Because of the scope and complexity of this program, organizations with less than four years experience in conducting international exchanges are not eligible to apply under this competition.

ECA encourages applicant organizations to provide maximum levels of cost sharing and funding from private sources in support of its programs. Applicant organizations must submit a comprehensive line item budget to include a summary budget as well as breakdowns reflecting both administrative and program budgets. Applicants may provide separate sub-budgets for each program component, phase, location, or activity to provide clarification. A comprehensive narrative must accompany the budget, clearly explaining all proposed costs (staff salaries and time on task must be supported by appropriate documentation and certified as true and accurate representations of actual costs and percentage of task).

Allowable costs for the program include the following:

(1) Program Expenses

(2) Domestic Administration

(3) Overseas Administration

Please refer to the Solicitation Package for complete budget guidelines and formatting instructions.

Announcement Title and Number: All correspondence with ECA concerning this RFGP should reference the above title and number ECA/A/E/EUR-02-02.

FOR FURTHER INFORMATION, CONTACT: The Office of Academic Exchange Programs, ECA/A/E/EUR, Room 246, U.S. Department of State, SA-44, 301 4th Street, SW., Washington, DC 20547, telephone: (202) 619-5429, fax: (202) 260-7985, e-mail: nsargent@pd.state.gov to request a Solicitation Package. The Solicitation Package contains detailed award criteria, required application forms, specific budget instructions, and standard guidelines for proposal preparation. Please specify ECA Program Officer Nadine Asef-Sargent on all inquiries and correspondence.

Please read the complete Federal Register announcement before sending inquiries or submitting proposals. Once the RFGP deadline has passed, ECA staff may not discuss this competition with applicants until the proposal review process has been completed.

To Download a Solicitation Package Via Internet

The entire Solicitation Package may be downloaded from ECA's website at http://exchanges.state.gov/education/RFGPs. Please read all information before downloading.

Deadline for Proposals: All proposal copies must be received at the Bureau of Educational and Cultural Affairs by 5 p.m. Washington, DC time, Thursday, August 9, 2001. Faxed documents will not be accepted at any time. Documents postmarked the due date but received on a later date will not be accepted. Each applicant must ensure that the proposals are received by the above deadline.

Applicants must follow all instructions in the Solicitation Package. The original and ten (10) copies of the application should be sent to: U.S. Department of State, SA-44, Bureau of Educational and Cultural Affairs, Ref.: ECA/A/E/EUR-02-02, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. ECA will transmit these files electronically to Public Affairs Sections at U.S. Embassies in the NIS for review, with the goal of reducing the time it takes to obtain embassy comments for ECA's grants review process.

Diversity, Freedom and Democracy Guidelines: Pursuant to ECA's authorizing legislation, programs must maintain a non-political character and should be balanced and representative of the diversity of American political, social, and cultural life. “Diversity” should be interpreted in the broadest sense and encompass differences including, but not limited to, ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” ECA “shall take appropriate steps to provide opportunities for participation in such programs to human rights and democracy leaders of such countries.” Public Law 106-113 requires that the governments of the countries described above do not have inappropriate influence in the selection process. Proposals should reflect advancement of these goals, to the full extent deemed feasible.

Review Process: ECA will acknowledge receipt of all proposals and will review them for technical eligibility. Proposals will be deemed ineligible if they do not fully adhere to the guidelines stated herein and in the Solicitation Package. The Program Office, as well as the Public Affairs Sections overseas, where appropriate, will review all eligible proposals. Eligible proposals will be subject to compliance with Federal and ECA regulations and guidelines and forwarded to ECA grant panels for advisory review. Proposals may also be reviewed by the Office of the Legal Adviser or by other Department elements. Final funding decisions are at the discretion of the Department of State's Acting Assistant Secretary for Educational and Cultural Affairs. Final technical authority for assistance awards (grants or cooperative agreements) resides with an ECA Grants Officer.

Review Criteria: Technically eligible applications will be competitively reviewed according to the criteria stated below. These criteria are not rank ordered and all carry equal weight in the proposal evaluation:

1. Program Development: The proposal should exhibit originality, substance, precision, and relevance to ECA's mission. Objectives should be reasonable, feasible, and flexible. A detailed and relevant work plan should demonstrate substantive understanding of program goals and logistical capacity.

2. Institutional Capacity: Proposed personnel and institutional resources should be adequate and appropriate to achieve the program's goals. The proposal should demonstrate an institutional record of successful exchange programs, including responsible fiscal management and full compliance with all reporting requirements for past ECA grants. ECA will consider the past performance of prior recipients and the demonstrated potential of new applicants.

3. Multiplier Effect: The program should strengthen long-term mutual understanding, including maximum sharing of information and establishment of long-term institutional and individual linkages.

4. Support of Diversity: The proposal should demonstrate the applicant organization's commitment to promoting the awareness and understanding of diversity through participant recruitment efforts, the selection of U.S. host institutions, and other measures.

5. Follow-on and Alumni Activities: The proposal should provide a plan for continued activity which ensures that ECA-supported programs are not isolated events, but have meaning and scope beyond the time the actual exchange took place.

6. Project Evaluation: The proposal should include plans to evaluate the program's success, both during and after the program.

7. Cost-effectiveness: The overhead and administrative components of the proposal, including salaries and honoraria, should be kept as low as possible. All other items should be necessary and appropriate.

8. Cost-sharing: The proposal should maximize cost sharing through private sector support as well as institutional direct funding contributions.

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided principally through FREEDOM Support Act legislation.

Notice: The terms and conditions published in this RFGP are binding and may not be modified by any ECA representative. Explanatory information provided by ECA that contradicts published language will not be binding. Issuance of the RFGP does not constitute an award commitment on the part of the Government. ECA reserves the right to reduce, revise, or increase proposal budgets in accordance with the needs of the program and the availability of funds. Awards made will be subject to periodic reporting and evaluation requirements.

Notification

Final awards cannot be made until funds have been appropriated by Congress, allocated, and committed through internal ECA procedures.

Dated: June 5, 2001.
Helena Kane Finn,
Acting Assistant Secretary for Educational and Cultural Affairs, U.S. Department of State.

[FR Doc. 01-15052 Filed 6-13-01; 8:45 am]

BILLING CODE 4710-05-P